FEDERAL COMMUNICATIONS COMMISSION

Federal Advisory Committee Act; Independent Panel Reviewing the Impact of Hurricane Katrina on Communications Networks

AGENCY: Federal Communications Commission.

ACTION: Notice of opportunity to provide oral presentations.

SUMMARY: This notice advises interested persons that the Federal Communications Commission's (FCC) Independent Panel Reviewing the Impact of Hurricane Katrina on Communications Networks (Panel or Independent Panel) is providing an opportunity for interested persons to make oral presentations to the Panel at its next meeting. The specific date, time and location of the next meeting will be announced in a subsequent notice.

DATES: February 17, 2006.

ADDRESSES: Lisa M. Fowlkes, Designated Federal Office of the Independent Panel, lisa.fowlkes@fcc.gov.

FOR FURTHER INFORMATION CONTACT: Lisa M. Fowlkes, Designated Federal Officer of the FCC's Independent Panel at 202-418-7452 or e-mail: lisa.fowlkes@fcc.gov or Jean Ann Collins, Alternate Designated Federal Officer of the Panel at 202-418-2792 or e-mail: jeanann.collins@fcc.gov.

SUPPLEMENTARY INFORMATION: The Independent Panel announces procedures for interested persons to provide oral presentations at the Panel's next meeting. The specific date, time and location of the next meeting will be announced in a subsequent notice. Consistent with the Panel's mission, the focus of the presentations should be: (1) The impact of Hurricane Katrina on telecommunications and media infrastructure and public safety communications, (2) the sufficiency and effectiveness of the recovery effort with respect to this infrastructure; and (3) ways to improve disaster preparedness, network reliability and communications among first responders such as police, fire fighters, and emergency medical personnel. The Panel seeks to hear a variety of viewpoints on these issues. To ensure that the Panel receives as many presentations as possible, presenters will be allotted 5-10 minutes each. To the extent there is an issue of particular interest to the Panel, it may solicit persons with expertise on the issue to provide presentations.

Interested persons who wish to provide oral presentations at the Independent Panel's next meeting should submit a request, in writing, to Lisa Fowlkes, Designated Federal Officer of the Panel by e-mail at lisa.fowlkes@fcc.gov. Requests should include: (1) The name of the person who would give the oral presentation and the name of the company or organization the person is representing, if any; (2) a description of the nature of the presentation; and (3) if available, a bio of the presenter. Requests must be received by the Designated Federal Officer no later than February 17, 2006. Persons selected to make presentations will be notified as soon as possible and provided additional information about the presentations.

Interested persons may also submit written statements to the Panel at any time. Written submissions may be sent to the Designated Federal Officer at lisa.fowlkes@fcc.gov or by U.S. Mail at: Lisa Fowlkes, Hurricane Katrina Independent Panel, Federal Communications Commission, 445 12th Street, SW., Room 7-C737, Washington, DC 20554.

Further information regarding the Independent Panel, including publicly available documents, may be found at the Panel's Web site at http://www.fcc.gov/eb/hkip. In addition, publicly available documents related to the Panel are available for inspection and copying at the FCC's Public Reference Information Center, 445 12th Street, SW., Room CY-a257, Washington, DC.

Federal Communications Commission.
Marlene H. Dortch,
Secretary.

[FR Doc. 06-1057 Filed 2-2-06; 8:45 am]

BILLING CODE 6712-01-M